DEPARTMENT OF THE INTERIOR

Bureau of Land Management

[LLORB00000.L10200000.BS0000.LXSSH1060000.18X.HAG 18-0149]

Notice of Public Meetings for the Southeast Oregon Resource Advisory Council

AGENCY: Bureau of Land Management, Interior.

ACTION: Notice of public meeting.

SUMMARY: In accordance with the Federal Land Policy and Management Act of 1976 and the Federal Advisory Committee Act of 1972, the U.S. Department of the Interior, Bureau of Land Management's (BLM), Southeast Oregon Resource Advisory Council (RAC) will meet as indicated below.

DATES: The Southeast Oregon RAC will meet Thursday, October 11, and Friday, October 12, 2018 from 8 a.m. to 5 p.m. Pacific Daylight Time each day. A half-hour comment period, during which the public may address the RAC, will begin at 4 p.m. Friday, October 12. The final agenda will be posted online at https://www.blm.gov/get-involved/resource-advisory-council/near-you/oregon-washington/southeast-oregon-rac at least one week prior to the meeting.

ADDRESSES: This meeting will be held at the Harney County Chamber of Commerce, 484 N Broadway, Burns, OR 97720.

FOR FURTHER INFORMATION CONTACT: Larisa Bogardus, Public Affairs Officer, 1301 S G Street, Lakeview, Oregon 97630; (541) 947-6811; lbogardus@blm.gov. Persons who use a telecommunications device for the deaf (TDD) may call the Federal Relay Service (FRS) at 1(800) 877-8339 to contact the above individual during normal business hours. The FRS is available 24 hours a day, 7 days a week, to leave a message or question with the above individual. You will receive a reply during normal business hours.

SUPPLEMENTARY INFORMATION: The meeting Thursday, October 11, will consist of working sessions that pertain to the Lakeview Resource Management Plan Amendment (RMP-A) and the Southeast Oregon (Vale) RMP-A. The meeting Friday, October 12, will include discussions about potential management approaches for the draft alternatives for the Lakeview District's RMP-A; development of interstate fuel breaks to protect against wildfire; a discussion of potential comments to submit regarding the draft alternatives proposed for the Southeast Oregon RMP-A; a report on the 2018 Fire Season; a presentation by the State of Oregon Department of Fish and Wildlife regarding their wolf management plan and how it applies to Federal lands; and any other business that may reasonably come before the RAC.

The 15-member Southeast Oregon RAC was chartered and appointed by the Secretary of the Interior. Their diverse perspectives are represented in commodity, conservation, and general interests. They provide advice to the BLM and US Forest Service resource managers regarding management plans and proposed resource actions on public land in southeast Oregon. All meetings are open to the public in their entirety. Information to be distributed to the RAC is requested prior to the start of each meeting.

Before including your address, phone number, email address, or other personal identifying information in your comments, please be aware that your entire comment—including your personal identifying information—may be made publicly available at any time. While you can ask us in your comment to withhold your personal identifying information from public review, we cannot guarantee we will be able to do so.

Authority: 43 CFR 1784.4-2.

Jeff Krauss,
Acting Assistant Director, Communications.

[FR Doc. 2018-19839 Filed 9-11-18; 8:45 am]

BILLING CODE 4310-33-P